DEPARTMENT OF ENERGY

Federal Energy Regulatory Commission

Combined Notice of Filings #1

Take notice that the Commission received the following electric corporate filings:

Docket Numbers: EC22-119-000.

Applicants: Just Energy (U.S.) Corp., Just Energy Illinois Corp., Just Energy New York Corp., Just Energy Pennsylvania Corp., Just Energy Texas I Corp., Just Energy Solutions Inc., Just Energy Limited, Hudson Energy Services, LLC.

Description: Joint Application for Authorization Under Section 203 of the Federal Power Act of Evergy Kansas Central, Inc., et al.

Filed Date: 9/12/22.

Accession Number: 20220912-5211.

Comment Date: 5 p.m. ET 10/3/22.

Take notice that the Commission received the following exempt wholesale generator filings:

Docket Numbers: EG22-220-000.

Applicants: Fall River Solar, LLC.

Description: Fall River Solar, LLC submits Notice of Self-Certification of Exempt Wholesale Generator Status.

Filed Date: 9/13/22.

Accession Number: 20220913-5052.

Comment Date: 5 p.m. ET 10/4/22.

Take notice that the Commission received the following electric rate filings:

Docket Numbers: ER10-2374-016; ER17-2059-011.

Applicants: Puget Sound Energy, Inc., Puget Sound Energy, Inc.

Description: Supplement to June 30, 2022 Triennial Market Power Analysis for the Northwest Region of Puget Sound Energy, Inc.

Filed Date: 9/8/22.

Accession Number: 20220908-5080.

Comment Date: 5 p.m. ET 9/29/22.

Docket Numbers: ER22-2154-001.

Applicants: New York Independent System Operator, Inc., Central Hudson Gas & Electric Corporation, Consolidated Edison Company of New York, Inc., Orange and Rockland Utilities, Inc., Niagara Mohawk Power Corporation, New York State Electric & Gas Corporation, Rochester Gas and Electric Corporation, Long Island Lighting Company d/b/a LIPA.

Description: Compliance filing: New York Independent System Operator, Inc. submits tariff filing per 35: Compliance Filing to Address Technical Corrections for NYTOs Rate Sch 19 to be effective 8/22/2022.

Filed Date: 9/13/22.

Accession Number: 20220913-5073.

Comment Date: 5 p.m. ET 10/4/22.

Docket Numbers: ER22-2421-000; ER22-2423-000; ER22-2427-000; ER22-2425-000; ER22-2426-000; ER22-2428-000; ER22-2424-000; ER22-2422-000.

Applicants: SR Turkey Creek, LLC, SR Bell Buckle, LLC, SR McKellar Lessee, LLC, SR McKellar, LLC, SR Clay, LLC, SR Cedar Springs, LLC, SR DeSoto I Lessee, LLC, SR DeSoto I, LLC.

Description: Supplement to July 19, 2022, SR Desoto I, LLC, et al. tariff filing.

Filed Date: 9/12/22.

Accession Number: 20220912-5214.

Comment Date: 5 p.m. ET 10/3/22.

Docket Numbers: ER22-2691-000.

Applicants: Midcontinent Independent System Operator, Inc.

Description: Report Filing: 2022-09-09_Supplemental for MISO-Union Electric SSR Agreement for Rush Island to be effective N/A.

Filed Date: 9/9/22.

Accession Number: 20220909-5155.

Comment Date: 5 p.m. ET 9/19/22.

Docket Numbers: ER22-2692-000.

Applicants: Midcontinent Independent System Operator, Inc.

Description: Report Filing: 2022-09-09_Supplemental Filing for Schedule 43K Rush Island SSR Cost Allocation to be effective N/A.

Filed Date: 9/9/22.

Accession Number: 20220909-5146.

Comment Date: 5 p.m. ET 9/19/22.

Docket Numbers: ER22-2838-000.

Applicants: Southwest Power Pool, Inc.

Description: § 205(d) Rate Filing: 4011 Panhandle Solar & Ponderosa Wind II & OG&E SNUFCA to be effective 11/12/2022.

Filed Date: 9/13/22.

Accession Number: 20220913-5032.

Comment Date: 5 p.m. ET 10/4/22.

Docket Numbers: ER22-2839-000.

Applicants: PJM Interconnection, L.L.C.

Description: § 205(d) Rate Filing: Original NSA, Service Agreement No. 6605; Queue No. AB1-056 to be effective 8/15/2022.

Filed Date: 9/13/22.

Accession Number: 20220913-5057.

Comment Date: 5 p.m. ET 10/4/22.

Docket Numbers: ER22-2840-000.

Applicants: Arizona Public Service Company.

Description: § 205(d) Rate Filing: Service Agreement No. 393, Amendment No. 1 to be effective 9/14/2022.

Filed Date: 9/13/22.

Accession Number: 20220913-5070.

Comment Date: 5 p.m. ET 10/4/22.

Docket Numbers: ER22-2841-000.

Applicants: Tri-State Generation and Transmission Association, Inc.

Description: § 205(d) Rate Filing: Amendment to Rate Schedule FERC No. 267 to be effective 11/14/2022.

Filed Date: 9/13/22.

Accession Number: 20220913-5096.

Comment Date: 5 p.m. ET 10/4/22.

Docket Numbers: ER22-2842-000.

Applicants: Michigan Electric Transmission Company, LLC.

Description: Tariff Amendment: Notice of Cancellation of Service Agreement with Wolverine to be effective 8/31/2022.

Filed Date: 9/13/22.

Accession Number: 20220913-5106.

Comment Date: 5 p.m. ET 10/4/22.

Docket Numbers: ER22-2843-000.

Applicants: New Covert Generating Company, LLC.

Description: Tariff Amendment: Notice of Cancellation of Rate Schedule and Request for Waivers to be effective 12/31/9998.

Filed Date: 9/13/22.

Accession Number: 20220913-5125.

Comment Date: 5 p.m. ET 10/4/22.

Docket Numbers: ER22-2844-000.

Applicants: Duke Energy Carolinas, LLC.

Description: § 205(d) Rate Filing: DEF- Revisions to Joint Open Access Transmission Tariff to be effective 12/31/9998.

Filed Date: 9/13/22.

Accession Number: 20220913-5132.

Comment Date: 5 p.m. ET 10/4/22.

Take notice that the Commission received the following electric securities filings:

Docket Numbers: ES22-65-000; ES22-66-000; ES22-67-000; ES22-68-000.

Applicants: Evergy Kansas Central, Inc., Evergy Kansas South, Inc., Evergy Metro, Inc., Evergy Missouri West, Inc., Evergy Kansas Central, Inc., Evergy Kansas South, Inc., Evergy Metro, Inc., Evergy Missouri West, Inc., Evergy Kansas Central, Inc., Evergy Kansas South, Inc., Evergy Metro, Inc., Evergy Missouri West, Inc., Evergy Kansas Central, Inc., Evergy Kansas South, Inc., Evergy Metro, Inc., Evergy Missouri West, Inc.

Description: Application Under Section 204 of the Federal Power Act for Authorization to Issue Securities of Evergy Kansas Central, Inc.

Filed Date: 9/12/22.

Accession Number: 20220912-5212.

Comment Date: 5 p.m. ET 10/3/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 13, 2022.
Debbie-Anne A. Reese,
Deputy Secretary.

[FR Doc. 2022-20179 Filed 9-16-22; 8:45 am]

BILLING CODE 6717-01-P